DEPARTMENT OF THE INTERIOR

National Park Service

Notice of Public Meeting

AGENCY: National Park Service, Interior.

ACTION: Notice of public meeting for the National Park Service Alaska Region's Subsistence Resource Commission (SRC) program.

SUMMARY: The Aniakchak National Monument Subsistence Resource Commission (ANIA SRC) will meet to develop and continue work on National Park Service (NPS) subsistence hunting program recommendations and other related subsistence management issues. This meeting is open to the public and will have time allocated for public testimony. The public is welcomed to present written or oral comments to the SRC. This meeting will be recorded and meeting minutes will be available upon request from the park superintendent for public inspection approximately six weeks after the meeting. The NPS SRC program is authorized under Title VIII, Section 808 of the Alaska National Interest Lands Conservation Act, Public Law 96-487, to operate in accordance with the provisions of the Federal Advisory Committee Act.

FOR FURTHER INFORMATION ON THE ANIA SRC MEETING CONTACT: Mary McBurney, Subsistence Manager, Tel. (907) 235-7891, Address: 240 W. 5th Avenue, Suite 236, Anchorage, AK 99501or Clarence Summers, Subsistence Manager, Tel. (907) 644-3603.

ANIA SRC Meeting Date and Location: The ANIA SRC meeting will be held on Monday, October 26, 2009, from 11 a.m. to 3 p.m. at the Chignik Lake Subsistence Building in Chignik Lake, AK. The ANIA SRC meeting may end early if all business is completed.

The proposed meeting agenda for each meeting includes the following:

1. Call to order.

2. SRC Roll Call and Confirmation of Quorum.

3. SRC Chair and Superintendent's Welcome and Introductions.

4. Approval of Minutes.

5. Review and Approve Agenda.

6. SRC Purpose and Status of Membership.

7. SRC Member Reports.

8. Park Subsistence Manager's Report.

9. Subsistence Uses of Horns, Antlers, Bones and Plants EA Update.

10. Federal Subsistence Board Update.

11. Alaska Board of Game Update.

12. Old Business.

13. New Business.

14. Public and other Agency Comments.

15. Set Time and Place for next SRC Meeting.

16. Adjournment.

SUPPLEMENTARY INFORMATION: The ANIA SRC meeting location and date may need to be changed based on weather or local circumstances. If the meeting date and location are changed, a notice will be published in local newspapers and announced on local radio stations prior to the meeting date.

Sue E. Masica,
Regional Director, Alaska.

[FR Doc. E9-23549 Filed 9-29-09; 8:45 am]

BILLING CODE 4312-HE-P